NATIONAL CREDIT UNION ADMINISTRATION

Sunshine Act Meeting

TIME AND DATE: 10:00 a.m., Thursday, February 7, 2002.

PLACE: Board Room, 7th Floor, Room 7047, 1775 Duke Street, Alexandria, VA 22314-3428.

STATUS: Open.

MATTERS TO BE CONSIDERED: 1. Request from a Federal Credit Union to Expand its Community Charter.

2. Requests from four (4) Federal Credit Unions to Convert to Community Charters.

3. Final Rule: Amendment to Section 701.21(c)(7)(ii)(C), NCUA's Rules and Regulations, Interest Rate Ceiling.

4. Request from a Corporate Federal Credit Union for a Field of Membership Amendment.

5. Wisconsin Member Business Loan Rule.

FOR FURTHER INFORMATION CONTACT: Becky Baker, Secretary of the Board, Telephone 703-518-6304.

Becky Baker,
Secretary of the Board.

[FR Doc. 02-2749 Filed 1-31-02; 3:07 pm]

BILLING CODE 7535-01-M